RAILROAD RETIREMENT BOARD

Privacy Act of 1974; Revised Systems of Records

AGENCY: Railroad Retirement Board.

ACTION: Notice: Publication of a New Routine Use and Records Retention and Disposition of RRB Privacy Act Systems of Records, RRB-5 and RRB-29.

SUMMARY: The purpose of this document is to publish a new routine use to allow disclosure of information to the Internal Revenue Service as required by the Affordable Care Act for our Privacy Act Systems of Records, RRB-5 and RRB-29. We also updated our records retention and disposal for RRB-29.

DATES: These changes become effective as proposed without further notice on June 16, 2014. We will file a report of the new routine use in RRB Systems of Records Notice for RRB-5 and a new routine use and updated records retention and disposition for RRB-29 to the Committee on Homeland Security and Governmental Affairs of the Senate; the Committee on Oversight and Government Reform of the House of Representatives; and the Office of Information and Regulatory Affairs, Office of Management and Budget (OMB).

ADDRESSES: Send comments to Ms. Martha P. Rico, Secretary to the Board, Railroad Retirement Board, 844 North Rush Street, Chicago, Illinois 60611-2092.

FOR FURTHER INFORMATION CONTACT: Mr. Timothy Grant, Chief Privacy Officer, Railroad Retirement Board, 844 North Rush Street, Chicago, Illinois 60611-2092; telephone 312-751-4869, or email at tim.grant@rrb.gov.

SUPPLEMENTARY INFORMATION: We are adding a new routine use to our Privacy Act Systems of Records Notices for RRB-5 and RRB-29 to provide information to the Internal Revenue Service as required under the Affordable Care Act. We are also updating our records retention and disposition for RRB-29 to reflect their approved records retention schedule from the National Archives and Records Administration.

Dated: April 11, 2014.
By Authority of the Board.
Martha P. Rico,
Secretary to the Board.

* * * * *

RRB-5

SYSTEM NAME:

Master File of Creditable Service and Compensation of Railroad Employees.

SYSTEM LOCATION:

U.S. Railroad Retirement Board, 844 Rush Street, Chicago, Illinois 60611.

SECURITY CLASSIFICATION:

None.

CATEGORIES OF INDIVIDUALS COVERED BY THE SYSTEM:

All individuals with creditable service under the Railroad Retirement and Railroad Unemployment Insurance Acts.

CATEGORIES OF RECORDS IN THE SYSTEM:

Name, social security number, RRB claim number, annuity beginning date, date of birth, sex, last employer identification number, amount of daily payrate, separation allowance or severance payment, creditable service and compensation after 1937, home address, and date of death.

AUTHORITY FOR MAINTENANCE OF THE SYSTEM:

Section 7(b)(6) of the Railroad Retirement Act of 1974 (45 U.S.C. 231f(b)(6)) and section 12(l) of the Railroad Unemployment Insurance Act (45 U.S.C. 362(l)).

PURPOSE(S):

The purpose of this system is to store railroad earnings of railroad employees which are used to determine entitlement to and amount of benefits payable under the Railroad Retirement Act, the Railroad Unemployment Insurance Act and the Social Security Act, if applicable. The records are updated daily based on earnings reports received from railroad employers and the Social Security Administration and are stored in the Employment Data Maintenance Application database and the Separation Allowance Lump Sum Award (SALSA) Master File.

ROUTINE USES OF RECORDS MAINTAINED IN THE SYSTEM, INCLUDING CATEGORIES OF USERS, AND THE PURPOSES OF SUCH USES:

a. Records may be transferred to the Social Security Administration to correlate disability freeze actions and in the cases where the railroad employees do not acquire 120 creditable service months before retirement or death or have no current connection with the railroad industry, to enable SSA to credit the employee with the compensation and to pay or deny benefits.

b. Yearly service months, cumulative service months, yearly creditable compensation, and cumulative creditable compensation may be released to the employees directly or through their respective employer.

c. Service months and earnings may be released to employers or former employers for correcting or reconstructing earnings records for railroad employees.

d. Employee identification and potential entitlement may be furnished to the Social Security Administration, Bureau of Supplemental Security Income, to Federal, State, and local welfare or public aid agencies to assist them in processing application for benefits under their respective programs.

e. Employee identification and other pertinent information may be released to the Department of Labor in conjunction with payment of benefits under the Federal Coal Mine and Safety Act.

f. The last employer information may be disclosed to the Department of Health and Human Services in conjunction with the Parent Locator Service.

g. Pursuant to a request from an employer covered by the Railroad Retirement Act or the Railroad Unemployment Insurance Act, information, regarding the employee's potential eligibility for unemployment, sickness or retirement benefits may be released to the requesting employer for the purpose of determining entitlement to and the rates of private supplemental pension, sickness or unemployment benefits and to calculate estimated benefits due from the employer.

h. If a request for information pertaining to an individual is made by an official of a labor organization of which the individual is a member and the request is made on behalf of the individual, information from the record of the individual concerning his anticipated benefit may be disclosed to the labor organization official.

i. Records may be disclosed in a court proceeding relating to any claims for benefits by the beneficiary under the Railroad Retirement Act or the Railroad Unemployment Insurance Act and may be disclosed during the course of an administrative appeal to individuals who need the records to prosecute or decide the appeal or to individuals who are requested to provide information relative to an issue involved in the appeal.

j. All records may be disclosed to the Social Security Administration for purposes of administration of the Social Security Act.

k. Service and compensation and last employer information may be furnished, upon request, to state agencies operating unemployment or sickness insurance programs for the purposes of their administering such programs.

l. The name, address and gender of a railroad worker may be released to a Member of Congress when the Member requests it in order that he or she may communicate with the worker about legislation which affects the railroad retirement or railroad unemployment and sickness insurance program.

m. The service history of an employee (such as whether the employee had service before a certain date and whether the employee had at least a given number of years of service) may be disclosed to AMTRAK when such information would be needed by AMTRAK to make a determination whether to award a travel pass to either the employee or the employee's widow.

n. (NEW) Records may be released to the Internal Revenue Service for the sole purpose of computing the additional Medicare tax shortfall amount. Records released will include the Social Security Number (SSN), employer name and Employer Identification Number (EIN). Records provided shall not be used for IRS audits or any other unauthorized purposes.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Social security number, claim number and name.

SAFEGUARDS:

Paper: Maintained in areas not accessible to the public in metal filing cabinents. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL:

Paper: Retained five years and destroyed in accordance with NIST guidelines. Previous years ledger put in storage when current year ledger is complete.

Magnetic tape: Magnetic tape records are retained for 90 days and then written over following NIST guidelines. For disaster recovery purposes certain tapes are stored 12-18 months.

Magnetic disk: Continually updated and permanently retained. When magnetic disk or other electronic media is no longer servicable, it is sanitized in accordance with NIST guidelines.

SYSTEM MANAGER(S) AND ADDRESS:

Office of Programs—Director of Policy and Systems, Railroad Retirement Board, 844 Rush Street, Chicago, Illinois 60611-2092.

NOTIFICATION PROCEDURE:

Requests for information regarding an individual's record should be in writing, including the full name, social security number and railroad retirement claim number (if any) of the individual. Before any information about any record will be released, the individual may be required to provide proof of identity, or authorization from the individual to permit release of information. Such requests should be sent to: Office of Programs—Assessment & Training, Chief of Employer Service and Training Center, Railroad Retirement Board, 844 Rush Street, Chicago, Illinois 60611-2092.

RECORD ACCESS PROCEDURE:

See Notification section above.

CONTESTING RECORD PROCEDURE:

See Notification section above.

RECORD SOURCE CATEGORIES:

Railroad employer.

EXEMPTIONS CLAIMED FOR THE SYSTEM:

None.

* * * * *

RRB-29

SYSTEM NAME:

Railroad Employees' Annual Gross Earnings Master File.

SYSTEM LOCATION:

U.S. Railroad Retirement Board, 844 Rush Street, Chicago, Illinois 60611.

SECURITY CLASSIFICATION:

None.

CATEGORIES OF INDIVIDUALS COVERED BY THE SYSTEM:

Railroad workers whose social security account number ends in “30”.

CATEGORIES OF RECORDS IN THE SYSTEM:

Gross earnings by individual by month, quarter or year.

AUTHORITY FOR MAINTENANCE OF THE SYSTEM:

Section 7(c)(2) of the Railroad Retirement Act of 1974 (45 U.S.C. 231f(c)(2)).

PURPOSE(S):

The purpose of this system is to maintain gross earnings reports for Financial Interchange sample employees for use in the calculation of payroll tax amounts used in the financial interchange determinations.

ROUTINE USES OF RECORDS MAINTAINED IN THE SYSTEM, INCLUDING CATEGORIES OF USERS, AND THE PURPOSES OF SUCH USES:

a. (New) Records may be released to the Internal Revenue Service for the sole purpose of computing the additional Medicare tax shortfall amount. Records released will include the Social Security Number (SSN), employer name, Employer Identification Number (EIN) and gross earnings for a 1-percent sample of active railroad employees in the reference year (per 20 CFR 209.13). Records provided shall not be used for IRS audits or any other unauthorized purposes.

DISCLOSURE TO CONSUMER REPORTING AGENCIES:

None.

POLICIES AND PRACTICES FOR STORING, RETRIEVING, ACCESSING, RETAINING, AND DISPOSING OF RECORDS IN THE SYSTEM:

STORAGE:

Paper, Magnetic tape and Magnetic disk.

RETRIEVABILITY:

Social security account number.

SAFEGUARDS:

Paper: Maintained in areas not accessible to the public in metal filing cabinents. Access is limited to authorizied RRB employees. Offices are locked during non-business hours. Building has 24 hour on-site security officers, closed circuit television monitoring and intrusion detection systems.

Magnetic tape and magnetic disk: Computer and computer storage rooms are restricted to authorized personnel; on-line query safeguards include a lock/unlock password system, a terminal oriented transaction matrix, role based access controls and audit trail. For electronic records, system securities are established in accordance with National Institute of Standards and Technology (NIST) guidelines, including network monitoring, defenses in-depth, incident response and forensics. In addition to the on-line query safeguards, they include encryption of all data transmitted and exclusive use of leased telephone lines.

RETENTION AND DISPOSAL: (Updated)

Paper: Original reports are retained for 2½ years and work files are retained for three years. Financial interchange tabulations are retained indefinitely, and all other tabulations are retained for two years, After the appropriate retention periods, items are destroyed in accordance with NIST guidelines.

Magnetic tape: Original reports on magnetic tape are retained for 2½ years and work files are retained for one year. The final summarized file is retained for two years. After the appropriate retention periods, original reports are returned to employers and all other magnetic tapes are written over following NIST guidelines.

Magnetic disk and electronic media: Original reports are retained for 2½ years, and work files are retained for three years. The final summarized file is retained for five years. Financial interchange tabulations are retained indefinitely. When magnetic disk or other electronic media is no longer required or serviceable, it is sanitized in accordance with NIST guidelines.

SYSTEM MANAGER(S) AND ADDRESS:

Chief of Benefit and Employment Analysis, Bureau of the Actuary, U.S. Railroad Retirement Board, 844 N. Rush Street, Chicago, Illinois 60611-2092

NOTIFICATION PROCEDURE:

Requests for information regarding an individual's record should be in writing addressed to the System Manager identified above, including the full name and social security account number and claim number of the individual. Before information about any record will be released, the System Manager may require the individual to provide proof of identity or require the requester to furnish an authorization from the individual to permit release of information.

RECORD ACCESS PROCEDURE:

See Notification section above.

CONTESTING RECORD PROCEDURE:

See Notification section above.

RECORD SOURCE CATEGORIES:

Railroad employers.

EXEMPTIONS CLAIMED FOR THE SYSTEM:

None.

* * * * *

[FR Doc. 2014-08756 Filed 4-16-14; 8:45 am]

BILLING CODE 7905-01-P